DEPARTMENT OF HOMELAND SECURITY

[Docket No. DHS-2014-0014]

President's National Security Telecommunications Advisory Committee

AGENCY: National Protection and Programs Directorate, DHS.

ACTION: Committee Management; Notice of Partially Closed Federal Advisory Committee Meeting.

SUMMARY: The President's National Security Telecommunications Advisory Committee (NSTAC) will meet on Wednesday, May 21, 2014, in Washington, DC. The meeting will be partially closed to the public.

DATES: The NSTAC will meet in a closed session on Wednesday, May 21, 2014, from 9:15 a.m. to 11:15 a.m. and in an open session on Wednesday, May 21, 2014, from 12:45 p.m. to 4:00 p.m.

ADDRESSES: The open session will be held at the Eisenhower Executive Office Building, Washington, DC and will begin at 12:45 p.m. Seating is limited and therefore will be provided on a first-come,first-servebasis. Additionally, the public portion of the meeting will be streamed via webcast at http://www.whitehouse.gov/live. For information on facilities or services for individuals with disabilities or to request special assistance at the meeting, contact nstac@dhs.gov as soon as possible.

We are inviting public comment on the issues the NSTAC will consider, as listed in the SUPPLEMENTARY INFORMATION section below. Associated briefing materials that will be discussed at the meeting will be available at www.dhs.gov/nstac for review as of May 5, 2014. Comments must be submitted in writing no later than May 14, 2014. Comments must be identified by docket number DHS-2014-0014 and may be submitted by one of the following methods:

• Federal eRulemaking Portal: http://www.regulations.gov. Follow the instructions for submitting comments.

• Email: NSTAC@dhs.gov. Include the docket number in the subject line of the message.

• Fax: 703-235-5962, Attn: Sandy Benevides.

• Mail: Designated Federal Officer, National Security Telecommunications Advisory Committee, National Protection and Programs Directorate, Department of Homeland Security, 245 Murray Lane, Mail Stop 0615, Arlington VA 20598-0615.

Instructions: All submissions received must include the words “Department of Homeland Security” and the docket number for this action. Comments received will be posted without alteration at http://www.regulations.gov, including any personal information provided.

Docket: For access to the docket to read background documents or comments received by the NSTAC, go to http://www.regulations.gov, referencing docket number DHS-2014-0014.

A public comment period will be held during the open portion of the meeting on Wednesday, May 21, 2014, from 3:15 p.m. to 3:45 p.m., and speakers are requested to limit their comments to 3 minutes. Please note that the public comment period may end before the time indicated, following the last call for comments. Contact Sandy Benevides at 703-235-5408 or Sandra.Benevides@dhs.gov to register as a speaker by close of business on May 14, 2014. Speakers will be accommodated in order of registration within the constraints of the time allotted to public comment.

FOR FURTHER INFORMATION CONTACT: Helen Jackson, NSTAC Designated Federal Officer, Department of Homeland Security, telephone (703) 235-5321 or Helen.Jackson@dhs.gov.

SUPPLEMENTARY INFORMATION: Notice of this meeting is given under the Federal Advisory Committee Act, 5 U.S.C. App. (Pub. L. 92-463). The NSTAC advises the President on matters related to national security and emergency preparedness (NS/EP) telecommunications policy.

Agenda: The committee will meet in open session to engage in an international panel discussion comprised of members from Canada, the United Kingdom, and the United States to discuss their country's approaches to infrastructure protection. Additionally, members will receive feedback from the Department of Homeland Security regarding the progress of the Government's implementation of recent NSTAC recommendations. The NSTAC members will be briefed on the committee's progress regarding its report on the Internet of Things. The committee will examine the cybersecurity implications of the Internet of Things, within the context of national security and emergency preparedness. Finally, NSTAC members will deliberate and vote on the NSTAC Information Technology Mobilization Scoping Report. The NSTAC will meet in a closed session to hear a classified briefing regarding cybersecurity threats and to discuss future studies based on Government's security priorities and perceived vulnerabilities.

Basis for Closure: In accordance with 5 U.S.C. 552b(c), Government in the Sunshine Act, it has been determined that two agenda items require closure as the disclosure of the information would not be in the public interest.

The first of these agenda items, the classified briefing, will provide members with context on nation state capabilities and strategic threats. Such threats target national communications infrastructure and impact industry's long-term competitiveness and growth, as well as the Government's ability to mitigate threats. Disclosure of these threats would provide criminals who wish to intrude into commercial and Government networks with information on potential vulnerabilities and mitigation techniques, also weakening existing cybersecurity defense tactics. This briefing will be classified at the top secret level, thereby exempting disclosure of the content by statute. Therefore, this portion of the meeting is required to be closed pursuant to 5 U.S.C. 552b(c)(1)(A).

The second agenda item, the discussion of potential NSTAC study topics, will address areas of critical cybersecurity vulnerabilities and priorities for Government. Government officials will share data with NSTAC members on initiatives, assessments, and future security requirements. The data to be shared includes specific vulnerabilities within cyberspace that affect the Nation's communications and information technology infrastructures and proposed mitigation strategies. Disclosure of this information to the public would provide criminals with an incentive to focus on these vulnerabilities to increase attacks on our cyber and communications networks. Therefore, this portion of the meeting is likely to significantly frustrate implementation of proposed DHS actions and is required to be closed pursuant to 5 U.S.C. 552b(c)(9)(B).

Dated: April 25, 2014.
Helen Jackson,
Designated Federal Officer for the NSTAC.

[FR Doc. 2014-10024 Filed 5-1-14; 8:45 am]

BILLING CODE P